DEPARTMENT OF INTERIOR

Fish and Wildlife Service

Proposed Safe Harbor Agreement for the California Red-Legged Frog for Landowners Restoring Aquatic and Riparian Habitat in the Pine Gulch Creek Watershed in Marin County, CA

AGENCY: Fish and Wildlife Service, Interior.

ACTION: Notice of availability; receipt of application.

SUMMARY: This notice advises the public that the Marin County Agriculture Commission (Applicant) has applied to the U.S. Fish and Wildlife Service (Service) for an enhancement of survival permit pursuant to Section 10(a)(1)(A) of the Endangered Species Act of 1973, as amended (Act). The permit application includes a proposed Safe Harbor Agreement (Agreement) between the Applicant and the Service for the threatened California red-legged frog (Rana aurora draytonii). The Agreement and permit application are available for public comment.

DATES: Written comments should be received on or before December 19, 2007.

ADDRESSES: Comments should be addressed to Rick Kuyper, U.S. Fish and Wildlife Service, Sacramento Fish and Wildlife Office, 2800 Cottage Way, W-2605, Sacramento, California 95825. Written comments may be sent by facsimile to (916) 414-6712.

FOR FURTHER INFORMATION CONTACT: Mr. Rick Kuyper, Sacramento Fish and Wildlife Office (see ADDRESSES); telephone: (916) 414-6600.

SUPPLEMENTARY INFORMATION:

Availability of Documents

You may obtain copies of the documents for review by contacting the individual named above. You may also make an appointment to view the documents at the above address during normal business hours.

Public Availability of Comments

Before including your address, phone number, e-mail address, or other personal identifying information in your comment, you should be aware that your entire comment—including your personal identifying information—may be made publicly available at any time. While you can ask us in your comment to withhold your personal identifying information from public review, we cannot guarantee that we will be able to do so.

Background

Under a Safe Harbor Agreement, participating landowners voluntarily undertake management activities on their property to enhance, restore, or maintain habitat benefiting species listed under the Act. Safe Harbor Agreements, and the subsequent enhancement of survival permits that are issued pursuant to Section 10(a)(1)(A) of the Act (16 U.S.C. 1531 et seq.), encourage private and other non-Federal property owners to implement conservation efforts for listed species by assuring property owners that they will not be subjected to increased land use restrictions as a result of efforts to attract or increase the numbers or distribution of a listed species on their property. Application requirements and issuance criteria for enhancement of survival permits through Safe Harbor Agreements are found in 50 CFR 17.22(c).

We have worked the Applicant to develop this proposed Programmatic Agreement for the conservation of the California red-legged frog in the 7.5 square-mile Pine Gulch Creek Watershed in Marin County, California. The properties subject to this Agreement consist of approximately 4,800 acres of non-Federal properties within the Pine Gulch Creek Watershed, on which habitat for the California red-legged frog will be created, enhanced, and managed pursuant to a written agreement between the Service, Marin County Agriculture Commission, and property owners in the Pine Gulch Creek Watershed.

This Agreement provides for the creation of a Program in which private landowners (Cooperators) enter into written cooperative agreements with the Applicant pursuant to the terms of the Agreement, to restore, enhance, and maintain aquatic and riparian habitat in ways beneficial to the California red-legged frog. Such cooperative agreements will be for a term of at least 10 years. The proposed duration of the Agreement is 30 years, and the proposed term of the enhancement of survival permit is 30 years. The Agreement fully describes the proposed management activities to be undertaken by Cooperators and the conservation benefits expected to be gained for the California red-legged frog.

Upon approval of this Agreement, and consistent with the Service's Safe Harbor Policy published in the Federal Register on June 17, 1999 (64 FR 32717), the Service would issue a permit to the Marin County Agriculture Commission authorizing take of the California red-legged frog by Cooperators incidental to the implementation of the management activities specified in the cooperative agreements, incidental to other lawful uses of the properties, including normal routine land management activities, and/or to return to pre-Agreement conditions (baseline).

To benefit the California red-legged frog, Cooperators will agree to undertake site-specific management activities, which will be specified in their written cooperative agreements. Management activities that could be included in the Cooperative Agreements will provide for the enhancement, restoration, and/or maintenance of aquatic and riparian habitat. These activities have been designed to enhance California red-legged frog populations by creating and improving breeding habitat, managing vegetation and grazing as appropriate, controlling non-native predators, and managing agriculture and recreation as appropriate to benefit populations of California red-legged frog. Take of California red-legged frog incidental to the aforementioned activities is unlikely; however, it is possible that in the course of such activities or other lawful activities on the enrolled property, a Cooperator could incidentally take a California red-legged frog, thereby necessitating take authority under the permit.

The California red-legged frog relies on a variety of habitats for various stages of its life cycle, including pond and riparian habitat, upland habitat and moist refuges. Baseline conditions, consisting of a description and survey to determine the quantity and location of suitable California red-legged frog habitat, shall be determined for each enrolled property as provided in the Agreement. In order to receive the above assurances regarding incidental take of the California red-legged frog, a Cooperator must maintain baseline on the enrolled property. The Agreement and requested enhancement of survival permit will allow each Cooperator to return to baseline conditions after the end to the term of the 10-year cooperative agreement and prior to the expiration of the 30-year permit, if so desired by the Applicant and Cooperator.

Consistent with the Service's Safe Harbor Policy (64 FR 32717), the proposed Agreement and requested permit also extend certain assurances to those lands that are immediately adjacent to lands on which restoration activities occur. To receive such assurances, a neighboring landowner must enter into a written agreement with the Service that specifics the baseline conditions on the property. This written agreement remains in effect until the expiration of the 30-year Agreement between the Applicant and the Service and requires the neighboring landowner to maintain the baseline conditions established at the start of the agreement.

Public Review and Comments

The Service has made a preliminary determination that the proposed Agreement and permit application are eligible for categorical exclusion under the National Environmental Policy Act of 1969 (NEPA). We explain the basis for this determination in the Environmental Action Statement, which is also available for public review.

Individuals wishing copies of the permit application, copies of our preliminary Environmental Action Statement, and/or copies of the full text of the Agreement, including a map of the proposed permit area, references, and legal descriptions of the proposed permit area, should contact the office and personnel listed in the ADDRESSES section above.

If you wish to comment on the permit application or the Agreement, you may submit your comment to the address listed in the ADDRESSES section of this document. Comments and materials received, including names and addressed of respondents, will be available for public review, by appointment, during normal business hours at the address in the ADDRESSES section above and will become part of the public record, pursuant to section 10(c) of the Act. Individual respondents may request that we withhold their home address from the record, which we will honor to the extent allowable by law. There also may be circumstances in which we would withhold from the record a respondent's identity, as allowable by law. If you wish us to withhold your name and/or address, you must state this prominently at the beginning of your comment. Anonymous comments will not be considered. All submissions from organizations or businesses, and from individuals identifying themselves as representatives or officials of organizations or businesses, are available for public inspection in their entirety.

We will evaluate this permit application, associated documents, and comments submitted thereon to determine whether the permit application meets the requirements of section 10(a) of the Act and NEPA regulations at 40 CFR 1506.6. If we determine that the requirements are met, we will sign the proposed Agreement and issue and enhancement of survival permit under section 10(a)(1)(A) of the Act to the Applicants for take of the California red-legged frog incidental to otherwise lawful activities in accordance with the terms of the Agreement. We will not make our final decision until after the end of the 30-day comment period and will fully consider all comments received during the comment period.

The Service provides this notice pursuant to section 10(c) of the Act and pursuant to implementing regulations for NEPA (40 CFR 1506.6).

Dated: November 8, 2007.
Susan K. Moore,
Field Supervisor, Sacramento Fish and Wildlife Office, Sacramento, California.

[FR Doc. 07-5703 Filed 11-16-07; 8:45 am]

BILLING CODE 4310-55-M